DEPARTMENT OF THE INTERIOR

Fish and Wildlife Service

Yukon Delta National Wildlife Refuge, Alaska

AGENCY: U.S. Fish and Wildlife Service, Interior.

ACTION: Notice of intent to revise the comprehensive conservation plan and prepare an environmental impact statement for Yukon Delta National Wildlife Refuge.

SUMMARY: We, the U.S. Fish and Wildlife Service (Service, we), will be developing a revised Comprehensive Conservation Plan (CCP) and Environmental Impact Statement (EIS) for Yukon Delta National Wildlife Refuge (Refuge). We will use local announcements, special mailings, newspaper articles, the Internet, and other media announcements to inform people of opportunities to provide input throughout the planning process. We will hold public meetings in communities within the Refuge during preparation of the revised plan. We will visit each of the 36 occupied communities within the Refuge boundary as we revise this plan.

DATES: Please provide written comments on the scope of the CCP revision by January 31, 2008.

ADDRESSES: Address comments, questions, and requests for further information to: Peter Wikoff, Planning Team Leader, Division of Conservation Planning and Policy, 1011 East Tudor Rd., MS-231, Anchorage, AK 99503. Comments may be faxed to (907) 786-3965, or sent via electronic mail to YukonDelta_planning@fws.gov. Additional information about the Refuge is available on the Internet at: http://alaska.fws.gov/nwr/planning/ydpol.htm.

FOR FUTHER INFORMATION CONTACT: Peter Wikoff, Planning Team Leader, phone (907) 786-3837 or Mikel Haase, Planning Team Leader, phone (907) 786-3402.

SUPPLEMENTARY INFORMATION: Established by the Alaska National Interest Lands Conservation Act (94 Stat. 2371) in 1980 (ANILCA), Yukon Delta National Wildlife Refuge is the second largest Refuge in the National Wildlife Refuge System. Stretching east for 300 miles from Nunivak Island in the Bering Sea to the village of Aniak, the Refuge spans more than 19 million acres. The two largest rivers in Alaska, the Yukon and the Kuskokwim, flow through the Refuge creating a delta which covers about 70% of the Refuge. This broad, flat area is less than 100 feet in elevation and covered by countless lakes and ponds. Flooding is common along rivers and lowlands. Wetlands, lakes, ponds, streams, inlets, bays, and coastal areas support an extremely varied community of fish and wildlife including one of the largest aggregations of water birds in North America. Each year over one million ducks, half a million geese and millions of shorebirds use the Refuge for both breeding and staging. The Refuge is also home to significant salmon fisheries.

Thirty-six occupied communities lie within the Refuge boundaries. Alaskan Native peoples have occupied the region for close to 10,000 years and their lives and culture are intertwined with the Refuge. Local Native corporations own vast tracts of lands within the Refuge.

Refuge purposes include: (1) Conserving fish and wildlife populations and habitats in their natural diversity, including, but not limited to, shorebirds, seabirds, whistling swans, emperor, white-fronted and Canada geese, black brant and other migratory birds, salmon, muskox, and marine mammals; (2) fulfilling international treaty obligations of the United States with respect to fish and wildlife and their habitats; (3) providing, in a manner consistent with purposes (1) and (2) above, the opportunity for continued subsistence use by local residents; and (4) ensuring, to the maximum extent practicable and in a manner consistent with purpose (1) above, water quality and necessary water quantity within the Refuge.

We furnish this notice in accordance with the ANILCA, the National Wildlife Refuge System Administration Act as amended by the National Wildlife Refuge System Improvement Act of 1997 (16 U.S. C. 668dd-688ee), the regulations implementing the National Environmental Policy Act (40 CFR 1500-1508), and Service policies.

These laws and policies require all lands within the National Wildlife Refuge System to be managed in accordance with an approved CCP which articulates a 15 year plan for managing a Refuge and identifies Refuge goals and objectives. During the CCP process, we will consider many elements, including: (1) Conservation of the Refuge's fish and wildlife populations and habitats in their natural diversity; (2) facilitation of subsistence use by local residents; (3) access for traditional activities; and (4) conservation of resource values, including cultural resources, wilderness, and rivers. The final revised CCP will detail programs, activities, and measures necessary to best administer the Refuge to protect these values and fulfill Refuge purposes over the next 15 years. Until the revised CCP is completed, management will continue to be guided by the original CCP, Federal legislation regarding management of National Wildlife Refuges, and other legal, regulatory, and policy guidance. The original CCP was approved in 1988.

Public Involvement

We plan to hold public involvement activities in communities within the Refuge. We plan to visit every one of the occupied villages within the Refuge at least once during plan revision. With appropriate advance notice, scoping meetings will be held between October 15, 2007, and the end of February 2008, as weather and other conditions permit. We will also be accepting comments via mail, e-mail, telephone, and through personal contacts throughout the planning process.

Public Availability of Comments

Before including your name, address, phone number, e-mail address, or other personal identifying information in your comment, you should be aware that your entire comment—including your personal identifying information—may be made publicly available at any time. While you can ask us in your comment to withhold your personal identifying information from public review, we cannot guarantee that we will be able to do so.

Dated: May 8, 2007.
Thomas O. Melius,
Regional Director, U.S. Fish & Wildlife Service, Anchorage, Alaska.

[FR Doc. E7-9285 Filed 5-14-07; 8:45 am]

BILLING CODE 4310-55-P